FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 31, 2010.

A. Federal Reserve Bank of Cleveland (Nadine Wallman, Vice President) 1455 East Sixth Street, Cleveland, Ohio 44101-2566:

1. WVS Financial Corp. Employee Stock Ownerhsip Plan, and Jonathan D. Hoover, sole trustee, both of Pittsburgh, Pennsylvania; to retain and acquire additional voting shares of WVS Financial Corp., and thereby indirectly retain and acquire additional voting shares of West View Savings Bank, both of Pittsburgh, Pennsylvania.

Board of Governors of the Federal Reserve System, August 11, 2010.
Jennifer J. Johnson,
Secretary of the Board.

[FR Doc. 2010-20157 Filed 8-13-10; 8:45 am]

BILLING CODE 6210-01-S